DEPARTMENT OF DEFENSE

Office of the Secretary

[Transmittal Nos. 10-27, 10-31 and 10-41]

36(b)(1) Arms Sales Notifications

AGENCY: Defense Security Cooperation Agency, DoD.

ACTION: Notice.

SUMMARY: The Department of Defense is publishing the unclassified text of three section 36(b)(1) arms sales notifications to fulfill the requirements of section 155 of Public Law 104-164, dated 21 July 1996.

FOR FURTHER INFORMATION CONTACT: Ms. B. English, DSCA/DBO/CFM, (703) 601-3740.

SUPPLEMENTARY INFORMATION: The following are copies of letters to the Speaker of the House of Representatives, Transmittals 10-27, 10-31, and 10-41 with associated attachments.

Dated: August 6, 2010.
Mitchell S. Bryman,
Alternate OSD Federal Register Liaison Officer, Department of Defense.

Transmittal No. 10-27

The following is a copy of a letter to the Speaker of the House of Representatives, Transmittal 10-27 with attached transmittal and policy justification.

BILLING CODE 5001-06-P

Transmittal No. 10-31

The following is a copy of a letter to the Speaker of the House of Representatives, Transmittal 10-31 with attached transmittal and policy justification.

Transmittal No. 10-41

The following is a copy of a letter to the Speaker of the House of Representatives, Transmittal 10-41 with attached transmittal and policy justification.

[FR Doc. 2010-19767 Filed 8-10-10; 8:45 am]

BILLING CODE 5001-06-C